DEPARTMENT OF HEALTH AND HUMAN SERVICES

Administration for Children and Families

[OMB No.: 0970-0445]

Proposed Information Collection Activity; Comment Request

Title: Implementation Grants to Develop a Model Intervention for Youth/Young Adults with Child Welfare Involvement at Risk of Homelessness: Phase II.

Description: The Administration for Children and Familes (ACF) at the U.S. Department of Health and Human Services (HHS) intends to collect data for an evaluation of the initiative, Implementation Grants to Develop a Model Intervention for Youth/Young Adults with Child Welfare Involvement at Risk of Homelessness: Phase II. This builds on the previously approved “Planning Grants to Develop a Model Intervention for Youth/Young Adults with Child Welfare Involvement at Risk of Homelessness” (Phase I). Phase II is an initiative, funded by the Children's Bureau (CB) within ACF, that will support implementation grants for interventions designed to intervene with youth who have experienced time in foster care and are most likely to have a challenging transition into adulthood, including homelessness and unstable housing experiences. CB awarded six implementation grants (Phase II) in September 2015. During the implementation phase, organizations will conduct a range of activities to fine-tune their comprehensive service model, determine whether their model is being implemented as intended, and develop plans to evaluate the model under a potential future funding opportunity (Phase III). During Phase II, ACF will engage a contractor to: Conduct a cross-site process evaluation. Data collected for the process evaluation will be used to assess grantees' organizational capacity to implement and evaluate the model interventions and to monitor each grantee's progress toward achieving the goals of the implementation period.

Data for the process evaluation will be collected through: Interviews during site visits.

Respondents: Grantee agency directors and staff; partner agency directors and staff. Partner agencies may vary by site, but are expected to include child welfare, mental health, and youth housing/homelessness agencies.

Annual Burden Estimates
Instrument | Total/annual number of respondents | Number of responses per respondent | Average burden hours per response | Total/annual burden hours
Call to coordinate site visit | 6 | 1 | 1 | 6
Grantee Site Visit-Semi-Structured Interview Topic Guide | 60 | 1 | 1.5 | 90
Estimated Total Annual Burden Hours |  |  |  | 96

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Planning, Research, and Evaluation, 330 C Street SW., Washington, DC 20201, Attn: OPRE Reports Clearance Officer. Email address: OPREinfocollection@acf.hhs.gov. All requests should be identified by the title of the information collection.

The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Mary Jones,
ACF/OPRE Certifying Officer.

[FR Doc. 2016-26806 Filed 11-4-16; 8:45 am]

BILLING CODE 4184-01-P